DEPARTMENT OF COMMERCE

International Trade Administration

[A-583-835]

Notice of Final Determination of Sales at Less Than Fair Value: Certain Hot-Rolled Carbon Steel Flat Products From Taiwan

AGENCY: Import Administration, International Trade Administration, Department of Commerce.

ACTION: Notice of Final Determination of Sales at Less than Fair Value.

EFFECTIVE DATE: September 28, 2001.

FOR FURTHER INFORMATION CONTACT: Patricia Tran or Robert James at (202) 482-1121 and (202) 482-0649, respectively, Import Administration, International Trade Administration, U.S. Department of Commerce, 14th Street and Constitution Avenue, NW, Washington, DC 20230.

SUPPLEMENTARY INFORMATION:

The Applicable Statute and Regulations

Unless otherwise indicated, all citations to the statute are references to the provisions effective January 1, 1995, the effective date of the amendments to the Tariff Act of 1930 (the Tariff Act) by the Uruguay Round Agreements. In addition, unless otherwise indicated, all citations to the Department of Commerce (Department) regulations are to the regulations at 19 CFR part 351 (April 1, 2000).

Final Determination

We determine that certain hot-rolled carbon steel flat products from Taiwan are being, or are likely to be, sold in the United States at less than fair value (LTFV), as provided in section 735 of the Tariff Act. The estimated margin of sales are shown in the “ Continuation of Suspension of Liquidation” section of this notice.

Case History

The Department published the preliminary determination of sales at less-than-fair-value on May 3, 2001. See Notice of Preliminary Determination of Sales at Less than Fair Value: Certain Hot-Rolled Carbon Steel Flat Products from Taiwan, 66 FR 22204 (May 3, 2001) (Preliminary Determination). In the Preliminary Determination, the Department collapsed China Steel and Yieh Loong (hereafter referred to as China Steel/Yieh Loong) pursuant to § 351.401(f) of the Department's regulations for purposes of calculating a weighted-average margin. For details of the Department's analysis, see the Memorandum to Joseph Spetrini from Patricia Tran, April 19, 2001, a copy of which is in room B-099 at the main Department of Commerce building. We gave interested parties an opportunity to comment on the Preliminary Determination. Since the April 23, 2001 signing of the Preliminary Determination the following events have occurred:

On April 23, 2001, China Steel/Yieh Loong submitted responses to the Department's April 17 and 18, 2001 supplemental questionnaires. After reviewing these responses, the Department concluded that they failed to adequately remedy or explain deficiencies in earlier responses. Therefore, the Department cancelled the sales and cost verifications of China Steel/Yieh Loong. See Letter to Peter Koenig from Robert James, Program Manager, Enforcement Group III, May 10, 2001.

On May 30 and 31, 2001, China Steel/Yieh Loong submitted additional responses to the Department's April 17 and 18, 2001 supplemental questionnaires. Pursuant to section 782(f) of the Tariff Act and 19 CFR 351.302(d)(i) the Department returned all documents due to the untimely nature of these submissions. See Letter to Peter Koenig from Robert James, Program Manager, Enforcement Group III, June 5, 2001.

On June 22, 2001, respondents and petitioners filed their case briefs in this matter; both parties filed rebuttal briefs on June 27, 2001. The Department published a postponement of the final determination for antidumping duty investigation on July 17, 2001. See Notice of Postponement of Final Determination for Antidumping Duty Investigation: Certain Hot-Rolled Carbon Steel Flat Products from Taiwan, 66 FR 37213 (July 17, 2001).

Although the deadline for this determination was originally September 17, 2001, in light of the events of September 11, 2001 and the subsequent closure of the Federal Government for reasons of security, the timeframe for issuing this determination has been extended by four days.

Period of Investigation

The period of investigation (POI) is October 1, 1999 through September 30, 2000.

Scope of Investigation

For purposes of these investigations, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of these investigations.

Specifically included within the scope of these investigations are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of these investigations, regardless of definitions in the Harmonized Tariff Schedule of the United States (HTSUS), are products in which: (i) Iron predominates, by weight, over each of the other contained elements; (ii) the carbon content is 2 percent or less, by weight; and (iii) none of the elements listed below exceeds the quantity, by weight, respectively indicated: 1.80 percent of manganese, or, 2.25 percent of silicon, or, 1.00 percent of copper, or, 0.50 percent of aluminum, or, 1.25 percent of chromium, or, 0.30 percent of cobalt, or, 0.40 percent of lead, or, 1.25 percent of nickel, or, 0.30 percent of tungsten, or, 0.10 percent of molybdenum, or, 0.10 percent of niobium, or, 0.15 percent of vanadium, or, 0.15 percent of zirconium.

All products that meet the physical and chemical description provided above are within the scope of these investigations unless otherwise excluded. The following products, by way of example, are outside or specifically excluded from the scope of these investigations:

• Alloy hot-rolled steel products in which at least one of the chemical elements exceeds those listed above (including, e.g., American Society for Testing and Materials (ASTM) specifications A543, A387, A514, A517, A506).

• Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to these investigations is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by these investigations, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and U.S. Customs purposes, the written description of the merchandise under investigation is dispositive.

Analysis of Comments Received

All issues raised in the case and rebuttal briefs by parties to this antidumping duty investigation are addressed in the “Issues and Decision Memorandum” (Decision Memorandum) from Joseph A. Spetrini, Deputy Assistant Secretary, Import Administration, to Faryar Shirzad, Assistant Secretary for Import Administration, dated September 19, 2001, which is hereby adopted by this notice. A list of the issues which parties have raised and to which we have responded, all of which are in the Decision Memorandum, is attached to this notice as an appendix. Parties can find a complete discussion of all issues raised in this review and the corresponding recommendations in this public memorandum which is on file in room B-099 of the Department of Commerce building. In addition, a complete version of the Decision Memorandum can be accessed directly on the internet at www.ia.ita.doc.gov. The paper copy and electronic version of the Decision Memorandum are identical in content.

Use of Facts Available

On January 4, 2001, the Department issued its antidumping duty questionnaire to China Steel/Yieh Loong. On February 2, 2001, the Department received from China Steel and Yieh Loong the response to section A of the questionnaire. On February 15, 2001 and February 21, 2001, the petitioners filed comments on the section A responses of China Steel/Yieh Loong. On February 27, 2001, the Department issued a supplemental questionnaire for China Steel/Yieh Loong's Section A response. The companies submitted their responses on March 20, 2001. China Steel made additional submissions in follow-up to its March 20, 2001 response on March 21 and March 26, 2001.

China Steel/Yieh Loong filed their sections B, C, and D responses on February 26, 2001. On March 6, 2001, petitioners submitted comments on the sections B, C, and D responses of China Steel/Yieh Loong. The Department issued supplemental questionnaires to China Steel/Yieh Loong regarding its sections B and C responses on March 15, 2001. On April 3, 2001, China Steel/Yieh Loong filed its supplemental sections B and C responses. However, China Steel's submission failed to correct the deficiencies the Department detailed in its supplemental questionnaire, i.e., missing product characteristics and downstream sales, and Yieh Loong's submission failed to provide narratives and supporting documentation for all expenses and adjustments for its downstream sales. On March 16, 2001, petitioners submitted additional comments regarding China Steel's section D response. On March 21, 2001, petitioners filed additional comments regarding Yieh Loong's Section D response. The Department issued supplemental questionnaires concerning China Steel's and Yieh Loong's section D response on March 21, 2001. The Department received the responses to these supplemental questionnaires on April 9, 2001.

On April 17 and April 18, 2001, the Department issued its third questionnaire to China Steel/Yieh Loong regarding its sections B, C and D responses. In these questionnaires the Department, again, requested China Steel to provide missing product characteristics and downstream sales information. In addition, this was the Department's third request to Yieh Loong for its downstream sales' narrative and supporting documentation of all expenses and adjustments. On April 23, 2001, China Steel/Yieh Loong submitted responses to the Department's April 17 and 18, 2001 supplemental questionnaire. After reviewing these responses, the Department concluded that China Steel/Yieh Loong failed to adequately remedy or explain deficiencies in earlier responses, and failed to provide vital data previously required by the Department. Therefore, the Department cancelled the sales and cost verifications of China Steel/Yieh Loong. See Letter to Peter Koenig from Robert James, Program Manager, Enforcement Group III, May 10, 2001.

On May 30 and 31, 2001, China Steel/Yieh Loong submitted additional responses to the Department's April 17 and 18, 2001 supplemental questionnaires. Pursuant to section 782(f) of the Tariff Act and 19 CFR 351.302(d)(i) the Department returned all documents due to the untimely nature of these submissions. See Letter to Peter Koenig from Robert James, Program Manager Enforcement Group III, June 5, 2001.

As mentioned above, we determined that these two companies are affiliated under section 771(33)(E) of the Tariff Act. Further, China Steel and Yieh Loong were collapsed and treated as a single producer under section 351.401(f) of the Department's regulations for purposes of calculating a weighted-average margin. See Memorandum from Patricia Tran to Joseph Spetrini, April 19, 2001.

Section 776(a)(2) of the Tariff Act provides that, if an interested party (A) withholds information that has been requested by the Department; (B) fails to provide such information in a timely manner or in the form or manner requested subject to sections 782(c)(1) and (e) of the Act; (C) significantly impedes a proceeding under the antidumping statute; or (D) provides such information but the information cannot be verified, the Department shall, subject to subsection 782(d) of the Tariff Act, use the facts otherwise available in reaching the applicable determination.

Section 782(c)(1) of the Tariff Act provides that if an interested party, “promptly after receiving a request from (the Department) for information, notifies (the Department) that such party is unable to submit the information requested in the requested form and manner, together with a full explanation and suggested alternative form in which such party is able to submit the information,” the Department may modify the requirements to avoid imposing an unreasonable burden on that party.

Also, section 782(d) of the Tariff Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses, as appropriate.

Additionally, section 782(e) of the Tariff Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability; and (5) the information can be used without undue difficulties.

Finally, section 776(b) of the Tariff Act provides that the Department may use an inference adverse to the interests of a party that has failed to cooperate by not acting to the best of its ability to comply with the Department's requests for information. See also Statement of Administrative Action (SAA) accompanying the URAA, H.R. Rep. No. 103-316 at 870 (1994).

For the reasons discussed below, the Department determines that, in accordance with sections 776(a)(2)(B) and 776(b) of the Tariff Act, the use of adverse facts available is appropriate for the final determination for China Steel/Yieh Loong.

We determine pursuant to sections 776(a)(2)(A), (B), and (C) that China Steel has withheld information requested by the Department, failed to supply such information by the applicable deadlines and has significantly impeded this proceeding. In each of its three submissions China Steel failed to provide complete sales and cost questionnaire responses. In its initial and supplemental responses, China Steel failed to provide the information requested in the Department's January 4, 2001 antidumping questionnaire, the March 15, 2001 sections B and C supplemental questionnaire, and the March 21, 2001 supplemental section D questionnaires. Additionally, Yieh Loong failed to provide a narrative and supporting documentation for its downstream sales. In the next section, we discuss the particular deficiencies identified in China Steel/Yieh Loong's three responses. We note that China Steel/Yieh Loong never requested any modification of the reporting requirements under section 782(c). Indeed, it repeatedly told the Department that the missing information would be forthcoming. The Department informed China Steel/Yieh Loong that its submission was deficient, and provided it with specific deficiency questions which it failed to answer. Finally, pursuant to section 782(e) the Department finds that the sales information China Steel/Yieh Loong did provide, absent the missing sales information, was too incomplete to form a reliable basis for making a determination and that China Steel/Yieh Loong has not acted to the best of its ability in providing information.

Finally, in light of our finding that China Steel/Yieh Loong has not cooperated by acting to the best of its ability, as evidenced by its failure to provide the information repeatedly requested nor to provide any proof that it was unable to provide such information, the Department has drawn an adverse inference in selecting the facts available under section 776(b).

Deficiencies in the Sales Response

For the reasons discussed below, we find that the use of facts available is warranted under section 776(a)(2) in light of the significant missing information from China Steel/Yieh Loong's sales responses. Our analysis of this sales response found deficiencies that preclude us from ensuring that products sold in the U.S. market are accurately matched to identical or most similar products sold in the home market. Without properly matching products sold in the U.S. and home markets, we cannot accurately identify similar matches and, as appropriate, calculate an accurate difference in merchandise (DIFMER) adjustment to account for the differences in the products being matched. Moreover, without accurate product characteristics, we are unable to assign costs with any degree of confidence and are, therefore, unable to determine if home market sales were made at prices below the cost of production. Ultimately, lacking the information in question, the Department is unable to calculate an accurate dumping margin which meets the requirements of the statute.

Since these functions are essential elements to a dumping analysis, we find that China Steel's responses cannot serve as a reliable basis for this preliminary determination. Specifically, China Steel/Yieh Loong failed to provide: (1) Complete and adequate affiliated parties' resale information; and (2) complete and accurate product characteristics.

1. Affiliated Parties' Resale

On January 4, 2001, the Department requested China Steel to provide affiliated parties' resale information if sales to affiliates constituted more than five percent of total home market sales. On January 19, 2001, China Steel requested that it be excused from reporting home market resales by affiliates. China Steel stated that sales to its affiliates, China Steel Global Trading Corporation (China Steel Global) and China Steel Chemical Corporation (China Steel Chemical), constituted less than five percent of total home market sales. On January 29, 2001, the Department replied, stating that we could not make a determination based on the information provided. The Department requested respondent to document the total quantity of subject merchandise sold to all affiliated parties (regardless of whether subject merchandise was later further processed by affiliates). China Steel failed to provide such information.

The Department concluded from China Steel's February 26, 2001 home market sales data that it coded sales to Yieh Loong, Yieh Phui, and Yieh Hsing as sales to unaffiliated parties. China Steel owns a substantial percentage of Yieh Loong, and Yieh Loong acknowledged that Yieh Phui, Yieh Hsing, and Persistence Hi-Tech are affiliated entities. See Affiliated Resellers Memorandum, April 19, 2001. The Department determined that China Steel's sales to Yieh Loong, Yieh Phui, and Yieh Hsing are to affiliated parties and constituted more than five percent of China Steel's February 26, 2001 home market sales observations. On March 15, 2001, the Department issued its supplemental sections B and C questionnaire, reiterating that China Steel must report all affiliated parties' resale information (Yieh Loong, China Steel Chemical, China Steel Global, Yieh Phui, and Yieh Hsing) to the first unaffiliated party. We note that our subsequent finding that China Steel and Yieh Loong should be treated as the same entity meant that we no longer needed the sales from China Steel to Yieh Loong; however, that finding did not diminish the need for affiliated parties' resale information for China Steel Chemical, China Steel Global, Yieh Phui, Yieh Hsing, and Persistence Hi-Tech.

China Steel/Yieh Loong's April 23, 2001 response provided incomplete, deficient, and inconsistent affiliated-party resales information. Moreover, Yieh Loong's April 23, 2001 submission failed to contain narratives and supporting documentation for all expenses and adjustments of its downstream sales. China Steel only reported downstream sales by Yieh Loong, Yieh Phui, and Yieh Hsing, made after February 21, 2000. As the questionnaire clearly indicates, the period of investigation is October 1, 1999 through September 30, 2000. Therefore a significant number of downstream sales have not been provided. China Steel's April 3, 2001 narrative states that it does not control Yieh Phui and Yieh Hsing; however, it has provided no evidence of the steps it took to obtain this information.

2. Physical Product Characteristics

The Department found other deficiencies that made China Steel's submission unusable for purposes of calculating a dumping margin. The principal deficiency was the failure to report certain product characteristics on particular types of sales, e.g., quality, carbon content, yield strength, thickness, and width. These deficiencies affected a significant share of China Steel's home market sales of prime merchandise that could be matched to U.S. sales, including both sales to its unaffiliated customers and to its affiliates Yieh Phui, Yieh Hsing, and China Steel Global. The absence of the noted five characteristics for numerous sales limits the ability to compare properly sales made to the U.S. market to sales made in the home market due to the uniqueness of each characteristic. Quality, carbon content, and yield strength will determine the performance characteristics of a given steel product and are critical physical characteristics, which will significantly affect the cost of production and pricing of various steel products. Width and thickness are physical characteristics that also affect pricing of the product, due in part to costs associated with producing material with different dimensional characteristics, and these characteristics also affect the cost of production, since thinner or narrower products require additional processing. This information is required to calculate a difference-in-merchandise adjustment when price-to-price comparisons involve similar, but not identical, models. China Steel's failure to provide complete physical characteristics for its home market merchandise precluded the Department from performing its normal cost and price analysis.

China Steel has contended that all sales which are missing such characteristics are so-called “leeway” sales. When China Steel manufactures products to a customer's specifications, it often produces somewhat more than it needs to meet the customer's needs. This remainder is put into inventory for subsequent sale to other customers. Thus, China Steel's characterizations to the contrary notwithstanding, the merchandise in question is not “secondary” quality merchandise which should not be matched to prime quality merchandise. The merchandise in question is prime quality; it has simply not been purchased by the customer to whose specifications it was originally produced. Moreover, although China Steel has claimed that it does not have the characteristics in question, China Steel has not explained how it could sell steel without knowing such fundamental characteristics as the width and thickness of the steel. In the Department's experience, hot-rolled steel customers demand to know all of the physical characteristics in the Department's hierarchy in order to be sure that the product they are purchasing will meet the demands of their intended application. Even for an application as simple as covering a hole in the street, a customer must know the thickness and width in order to be sure that the hole will be covered and the steel will not bend.

China Steel has not reported the product characteristics of quality, carbon, yield strength, thickness, and width on a significant percentage of its home market sales; thus, none of these sales data can be used for cost tests, model match, or price comparisons. Yieh Loong, Yieh Phui, and Yieh Hsing resold merchandise purchased from China Steel without any further processing; therefore, the same deficiency affecting China Steel's sales to its affiliates carries through to the resales by affiliates. Because China Steel's sales to affiliates constituted approximately one-fifth of its total home market sales observations, its affiliated parties' resale product characteristics are severely incomplete. Sales of merchandise with the missing model characteristics constitute more than half of Yieh Loong's, Yieh Phui's, and Yieh Hsing's reported resales. Furthermore, the unaffiliated party sales are similarly affected. Sales of prime merchandise with the missing product characteristics totaled nearly one-fifth of total home market sales observations by China Steel to unaffiliated companies, and more than eight percent of the reported home market sales of China Steel/Yieh Loong.

Adverse Inferences

Pursuant to section 776(b) of the Tariff Act, we find that China Steel failed to cooperate to the best of its ability because it repeatedly ignored the Department's instructions to submit accurate downstream sales data as demonstrated by its selective submission of China Steel's affiliates' data, and never provided alternatives or reasonable explanations for why it could not report all downstream sales. Further, without this data, the information regarding home market sales is unusable. In addition, a significant quantity of China Steel's home market sales are made through affiliates. Without this information the Department's ability to calculate an accurate dumping margin would be severely hindered.

Moreover, we also find that China Steel failed to cooperate to the best of its ability because it repeatedly ignored the Department's instructions to submit complete physical characteristics for its sales. Without this information, the Department cannot identify home market sales of identical or most similar products, thus rendering its entire home market database unusable. Nor can we properly perform a cost test for home market sales.

Because the deficiencies in China Steel/Yieh Loong's responses affect a significant portion of its responses, its data is unusable for purposes of calculating a margin. Accordingly, for the purpose of this final determination, we have assigned as adverse facts available the highest margin from the antidumping petition as recalculated by the Department. See Notice of Initiation of Antidumping Duty Investigations: Certain Hot-Rolled Carbon Steel Flat Products from Argentina, India, Indonesia, Kazakhstan, the Netherlands, the People's Republic of China, Romania, South Africa, Taiwan, Thailand, Ukraine, 65 FR 77568 (December 12, 2000).

All Others Rate

Pursuant to section 735(5)(B) of the Tariff Act, the estimated “all-others” rate is equal to the average of the dumping margins calculated in the antidumping duty petition as recalculated by the Department. See Preliminary Determination at 22208.

Continuation of Suspension of Liquidation

In accordance with section 735(c)(1)(B) of the Tariff Act, we are directing the Customs Service to continue to suspend the liquidation of all entries of hot-rolled carbon steel flat products from Taiwan that are entered, or withdrawn from warehouse, for consumption on or after May 3, 2001, the date of publication of the Preliminary Determination in the Federal Register. The Customs Service shall continue to require a cash deposit or the posting of a bond equal to the weighted average dumping margin, as indicated in the chart below. These cash deposit instructions will remain in effect until further notice.

Manufacturer/exporter | Margin (percent)
China Steel Corporation (including Yieh Loong) | 29.14
An Feng Steel Co., Ltd | 29.14
All Others | 20.28

International Trade Commission Notification

In accordance with section 735(d) of the Tariff Act, we have notified the International Trade Commission (the Commission) of the determination. As the final determination is affirmative, the Commission will, within 45 days, determine whether these imports are materially injuring, or threaten material injury to, the U.S. industry. If the Commission determines that material injury or threat of material injury does not exist, the proceeding will be terminated and all securities posted will be refunded or canceled. If the Commission determines that such injury does exist, the Department will issue an antidumping duty order directing the Customs Service to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to section 735(d) and 777(i)(1) of the Tariff Act.

Dated: September 21, 2001.
Faryar Shirzad,
Assistant Secretary for Import Administration.

Appendix

Comments and Responses

1. Collapsing of China Steel and Yieh Loong

2. Affiliation

3. Time to Respond to Request for Information

4. Application of Facts Available & Adverse Facts Available

[FR Doc. 01-24409 Filed 9-27-01; 8:45 am]

BILLING CODE 3510-DS-P